DEPARTMENT OF STATE

[Public Notice 8674]

60-Day Notice of Proposed Information Collection: NEA/PI Online Performance Reporting System (PRS)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 27, 2014.

ADDRESSES: You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: mepidatabasecomments@state.gov.

• Mail (paper, disk, or CD-ROM submissions): Catherine Bourgeois, Deputy Director, U.S. Department of State, Office of the Middle East Partnership Initiative (NEA/PI), Bureau of Near Eastern Affairs, NEA Mail Room—Room 6258, 2201 C St. NW., Washington, DC 20520.

• Fax: 202-647-8445.

• Hand Delivery or Courier: 2430 E St. NW., (23rd and D St. NW.), Navy Hill—SA-4—Central, Second Floor, Washington, DC 20037.

You must include the DS form number (if applicable), information collection title, and the OMB control number in any correspondence.

FOR FURTHER INFORMATION CONTACT: Direct requests for additional information regarding the collection listed in this notice, including requests for copies of the proposed collection instrument and supporting documents, to Markita Cooke, U.S. Department of State, Office of the Middle East Partnership Initiative (NEA/PI), Bureau of Near Eastern Affairs, NEA Mail Room—Room 6258, 2201 C St. NW., Washington DC 20520, who may be reached on 202-776-8309 or at CookeMA@state.gov.

SUPPLEMENTARY INFORMATION:

• Title of Information Collection: NEA/PI Online Performance Reporting System (PRS).

• OMB Control Number: 1405-0183.

• Type of Request: Extension.

• Originating Office: NEA/PI.

• Form Number: DS-4127.

• Respondents: Recipients of NEA/PI grants.

• Estimated Number of Respondents: 75 respondents annually.

• Estimated Number of Responses: 300 per year.

• Average Time per Response: 20 hours.

• Total Estimated Burden Time: 6000 hours.

• Frequency: quarterly.

• Obligation To Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Since 2002, MEPI has obligated more than $800 million to over 725 organizations, which carry out more than 1,000 projects in support of political, economic, education and women's rights reform in 20 countries of the Middle East and North Africa. As a normal course of business and in compliance with 22 U.S.C. 2395(b) and OMB Guidelines contained in Circular A-110, recipient organizations are required to provide, and the U.S. State Department is required to collect, periodic program and financial performance reports. The responsibility of the State Department to track and monitor the programmatic and financial performance necessitates a database that can help facilitate this in a consistent and standardized manner. The MEPI Performance Reporting System (PRS) enables enhanced monitoring and evaluation of grants through standardized collection and storage of relevant award elements, such as quarterly progress reports, workplans, results monitoring plans, grant agreements, financial reports, and other business information related to MEPI implementers. The PRS streamlines communication with implementers and allows for rapid identification of information gaps for specific projects.

Methodology

Information will be entered into PRS electronically by respondents.

Additional Information:

Dated: March 21, 2014.
Catherine Bourgeois,
Deputy Director, Bureau of Near Eastern Affairs, NEA/PI, Department of State.

[FR Doc. 2014-06964 Filed 3-27-14; 8:45 am]

BILLING CODE 4710-31-P